DEPARTMENT OF TRANSPORTATION

Federal Aviation Administration

14 CFR Part 93

[Docket No. FAA-2005-20704; Amendment No. 93-85]

Congestion and Delay Reduction at Chicago O'Hare International Airport

AGENCY: Federal Aviation Administration, DOT.

ACTION: Final rule; notice of office of management and budget approval for information collection.

SUMMARY: This document announces the Office of Management and Budget's (OMB) approval of the information collection requirement in the final rule published on August 29, 2006 (FR 71 51382). The sections of the final rule pending approval of this information collection will become effective on the date included in the published final rule; October 29, 2006.

DATES: Effective Date: October 29, 2006. Congestion and Delay Reduction at Chicago O'Hare International Airport published in the Federal Register on August 29, 2006. FAA received OMB approval for the information collection requirement on August 29, 2006.

FOR FURTHER INFORMATION CONTACT: Dr. Jeffrey Wharff, Office of Policy and Plans, APO-200, Federal Aviation Administration, 800 Independence Avenue, SW., Washington, DC 20591; telephone (202) 267-3274.

SUPPLEMENTARY INFORMATION:

Background

On August 29, 2006, the FAA published the final rule, “Congestion and Delay Reduction at Chicago O'Hare International Airport.” In the final rule, the FAA adopts regulations to address persistent delays from overscheduling at O'Hare International Airport. In the DATES section of the final rule, we noted that affected parties did not need to comply with the information collection requirements in certain sections of the rule until the Office of Management and Budget (OMB) approved the FAA's request.

In accordance with the Paperwork Reduction Act, OMB approved the FAA's request for new information collection on August 29, 2006, and assigned the information collection OMB Control Number 2120-0716. The control number, granted on the day the final rule was published, was not available in time to include in that publication. The request was approved by OMB without change and expires on August 31, 2009.

49 U.S.C. 106(g), 40113, 40119, 41706, 44101, 44701-44702, 44705, 44709-44711, 44713, 44716-44717, 44722, 46105, grants authority to the Administrator to publish this notice. The final rule (FR 71 51382) and all sections previously pending OMB information collection approval will be effective October 29, 2006.

Issued in Washington, DC, on September 26, 2006.
Brenda D. Courtney,
Acting Director, Office of Rulemaking.

[FR Doc. E6-16406 Filed 10-3-06; 8:45 am]

BILLING CODE 4910-13-P